DEPARTMENT OF DEFENSE

DEPARTMENT OF ENERGY

ENVIRONMENTAL PROTECTION AGENCY

DEPARTMENT OF HEALTH AND HUMAN SERVICES

Food and Drug Administration

DEPARTMENT OF THE INTERIOR

Geological Survey

DEPARTMENT OF COMMERCE

National Institute of Standards and Technology

NUCLEAR REGULATORY COMMISSION

[Docket No. A-2001-16; FRL-7042-4]

Draft Multi-Agency Radiological Laboratory Analytical Protocols Manual

AGENCY: Department of Defense, Department of Energy, Environmental Protection Agency, Food and Drug Administration, U.S. Geological Survey, National Institute of Standards and Technology, and the Nuclear Regulatory Commission.

ACTION: Notice of availability with request for public comment.

SUMMARY: The Department of Defense (DoD), Department of Energy (DOE), Environmental Protection Agency (EPA), Food and Drug Administration (FDA), U.S. Geological Survey (USGS), National Institute of Standards and Technology (NIST), and the Nuclear Regulatory Commission (NRC) are announcing for public comment the availability of a draft document, entitled the “Multi-Agency Radiological Laboratory Analytical Protocols” (MARLAP) Manual. MARLAP provides guidance for the planning, implementation and assessment phases of those projects which require laboratory analysis of radionuclides. The guidance is intended for project planners, managers and laboratory personnel. The MARLAP, when finalized, will be a multi-agency consensus document. The agencies are seeking public comment in order to receive feedback from the widest range of interested parties and to ensure that all information relevant to developing the document is received. The agencies will review public comments received on the draft MARLAP as well as comments from a concurrent, independent, scientific peer review. Suggested changes will be incorporated, where appropriate, in response to those comments.

DATES: Comments received by December 15, 2001 will be considered. Comments received after that date will be considered if it is practical to do so, but no assurance can be given for consideration of late comments.

ADDRESSES: Members of the public are invited and encouraged to submit comments to the following website http://www.eml.doe.gov/marlap/. Comments may also be submitted to either the U.S. Environmental Protection Agency, ATTN: Air and Radiation Docket, Mail Stop 6102, Docket Number A-2001-16, Room M1500, First Floor Waterside Mall, 401 M Street, SW., Washington, DC 20460 or to the Chief, Rules and Directives Branch, Division of Administrative Services, Mail Stop T6D59, U.S. Nuclear Regulatory Commission, Washington, DC 20555-0001. All comments received will be reviewed by the entire MARLAP Workgroup. Copies of the draft MARLAP manual and all comments received may be examined or copied for a fee at the EPA Docket Room M1500, Docket Number A-2001-16, First Floor Waterside Mall, 401 M Street, SW., Washington, DC 20460; and the NRC Public Document Room, at U.S. Nuclear Regulatory Commission, Public Document Room, Washington, DC 20555. The EPA docket may be inspected from 8 am to 4 pm, Monday through Friday, excluding Federal holidays, in Room M1500 at the address above. The document is also available through the National Technical Information Service (NTIS). The NTIS document number is PB2001-106745, and the NTIS Sales Desk can be reached between 8:30 a.m. and 6 p.m., Eastern time, Monday through Friday at 1-800-553-6847; TDD (hearing impaired only) at (703) 487-4639.

FOR FURTHER INFORMATION CONTACT: Any of the following points of contact for each agency for technical information: EPA: John Griggs, U.S. Environmental Protection Agency, Office of Radiation and Indoor Air, NAREL, 540 South Morris Avenue, Montgomery, AL 36115-2601, Phone Number: (334)270-3450, Email: griggs.john@epamail.epa.gov; Eric Reynolds, U.S. Environmental Protection Agency, Office of Emergency and Remedial Response, Phone Number: (703)603-9928, Email: reynolds.eric@epamail.epa.gov, DoD: Air Force: Dale Thomas, Detachment 1, Human Systems Center/OEBA, 2402 E. Drive, Brooks AFB, TX 78235-5114, Phone Number: (210)536-5816, Email: dale.thomas@brooks.af.mil; Army: Ronald Swatski, U.S. Army, Center for Health Promotion and Preventive Medicine, Attn: MCHB-TS-LRD, 5158 Blackhawk Road APG, MD 21010-5403, Phone Number: (410)436-3983, Email: ronald.swatski@amedd.army.mil; Navy: Captain David Farrand, Navy Sea Systems Command, SEA04N (CDR Farrand), 2531 Jefferson Davis Highway, Arlington, VA 22241-5260; Army Corps of Engineers: Jan Dunker, U.S. Army Corps of Engineers, (Attn: CENWO-HX-C), 12565 West Center Road, Omaha, NE 68144-3869, Phone Number: (402)697-2566, Email: jan.w.dunker@usace.army.mil; DOE: Mary Verwolf, U.S. Department of Energy, National Analytical Management Program, MS4149, 850 Energy Drive, Idaho Falls, ID 83402, Phone Number: (208)526-7001, Email: verwolmc@id.doe.gov; Emile Boulos, U.S. Department of Energy, Office of Environmental Policy and Assistance, Air, Water and Radiation Division (EH-412), Room 3G-089, 1000 Independence Avenue, SW, Washington, DC 20585, Phone Number: (202)586-1306, Email: emile.boulos@eh.doe.gov; NRC: Rateb (Boby) Abu Eid, U.S. Nuclear Regulatory Commission, Mail Stop T-7J10, Washington, DC 20555, Phone Number: (301)415-5811, Email: bae@nrc.gov; NIST: Kenneth Inn, National Institute of Standards and Technology, Building 245, Room C114, MS 8462, Gaithersburg, MD 20899-8462, Phone Number: (301)975-5541, Email: kenneth.inn@nist.gov; USGS: Ann Mullin, U.S. Geological Survey, National Water Quality Lab, P.O. Box 25046, Denver Federal Center, Bldg. 95 Ent E3, Mail Stop 407, Denver, CO 80225-0046, Phone Number: (303)236-3480, Email: ahmullin@usgs.gov; FDA: Edmond Baratta, U.S. Food and Drug Administration, Winchester Engineering and Analytical Center, 109 Holton Street, Winchester, MA 01890, Phone Number: (781)729-5700 (x728), Email: ebaratta@ora.fda.gov.

SUPPLEMENTARY INFORMATION: The MARLAP provides guidance for the planning, implementation and assessment phases of those projects which require the laboratory analysis of radionuclides. This guidance is intended for project planners, managers and laboratory personnel. The manual's basic goal is to provide guidance to ensure that radioanalytical laboratory data will meet a project's or program's data requirements and needs. The document uses a performance-based approach and will support a wide range of data collection activities including site characterization and cleanup; compliance demonstration; decommissioning of nuclear facilities; remedial and removal actions; environmental monitoring; and waste management activities. The MARLAP, when finalized, will be a multi-agency consensus document. MARLAP was developed collaboratively over the past five years by the technical staffs of seven Federal agencies. State participation in the development of the manual involved contributions from representatives from the Commonwealth of Kentucky and the State of California. Contractors to the DOE, EPA, and NRC, and members of the public have been present during the open meetings of the MARLAP work group.

Although Federal agency personnel are involved in the preparation of this document, the manual does not represent the official position of any participating agency at this time. An earlier draft of the document has been reviewed within the Federal agencies. The public review is a necessary step in the development of a final multi-agency consensus document. The document will also receive formal technical peer review. The draft has not been approved by the participating agencies for use in part or in whole and should not be used, cited, or quoted except for the purposes of providing comments as requested. In addition to providing comments on individual chapters and appendices, reviewers are also requested to address the following questions listed below while reviewing the MARLAP manual.

(1) Is the performance-based approach used in MARLAP for the planning, implementation and assessment phases of projects technically sound and is the approach reasonable in terms of ease of implementation by project managers and laboratories? Does the approach effectively link the three phases of a project and is the guidance on quality control appropriate and supportive of a performance-based approach?

(2) Is the guidance on laboratory operations in the Part II chapters technically accurate and useful?

(3) Are the concepts covered under measurement statistics, specifically measurement uncertainty, detection and quantification capability, presented accurately and appropriately?

(4) Is the information understandable and presented in logical sequence? How can the presentation of material be modified to improve the manual?

(5) Does the MARLAP manual provide benefits that are not currently available through other approaches? What are the costs associated with implementing the guidance in MARLAP in comparison with currently available alternatives?

Commentors are encouraged to use the website listed in the ADDRESSES section of this notice for their review. The website has detailed instructions on how to submit comments and has several features that should aid the review process.

Written comments may also be submitted. Commentors are encouraged to submit their written comments using the same general approach described in the website, http://www.eml.doe.gov/ marlap/. Comments should be accompanied by supporting bases, rationale, or data. To ensure efficient and complete comment resolution, commentors are requested to reference the page number and the line number of the MARLAP to which the comment applies. All comments received will be reviewed by the MARLAP Workgroup.

For the Department of Defense, dated this 16th day of August, 2001.
Patrick J. Meehan, Jr.,
Acting Assistant Deputy Under Secretary of Defense (Environment).

For the Department of Energy, dated this 23rd day of July, 2001.
Raymond P. Berube,
Deputy Assistant Secretary for Environment.

For the Department of Energy, dated this 6th day of August, 2001.
Randal S. Scott,
Director, Office of Safety, Health and Security, Office of Environmental Management.

For the Environmental Protection Agency, dated this 20th day of July, 2001.
Mary U. Kruger,
Acting Director, Office of Radiation and Indoor Air.

For the Environmental Protection Agency, dated this 28th day of July, 2001.
Larry G. Reed,
Acting Director, Office of Emergency and Remedial Response.

For the Food and Drug Administration, dated this 26th day of July, 2001.
Michael C. Olson,
Director, Division of Field Science, Office of Regulatory Affairs.

For the U.S. Geological Survey, dated this 1st day of August, 2001.
Robert M. Hirsch,
Associate Director for Water, U.S. Geological Survey.

For the National Institute of Standards and Technology, dated this 17th day of July, 2001.
Bert M. Coursey,
Chief, Ionizing Radiation Division.

For the Nuclear Regulatory Commission, dated this 8th day of August, 2001.
John T. Greeves,
Director, Division of Waste Management, Office of Nuclear Material Safety and Safeguards.

[FR Doc. 01-22017 Filed 8-30-01; 8:45 am]

BILLING CODE 6560-50-P